DEPARTMENT OF DEFENSE

Office of the Secretary

[Docket ID: DoD-2014-OS-0116]

Proposed Collection; Comment Request

AGENCY: Defense Information Systems Agency, DoD.

ACTION: Notice.

SUMMARY: In compliance with the Paperwork Reduction Act of 1995, the Defense Information Systems Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 2, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Office of Public Affairs, Defense Information Systems Agency, 6910 Cooper Rd, Ft. Meade Maryland 20755. Contact 301-225-8100 or disa.meade.spi.mbx.disa-pao@mail.mil.

SUPPLEMENTARY INFORMATION: Title; Associated Form; and OMB Number: Defense Connect Online Satisfaction Survey; OMB Control Number 0704-TBD.

Needs and Uses: The information collection requirement is necessary to measure user satisfaction of the Defense Connect Online (DCO) collaboration tool in accordance with the Quality Assurance Surveillance Plan required by contract HC1047-11-C-4013.

Affected Public: Individuals or Households.

Annual Burden Hours: 300.

Number of Respondents: 1200.

Responses per Respondent: 1.

Average Burden per Response: 15 minutes.

Frequency: On occasion.

Respondents are DoD contractors who are registered users of DCO as part of their official duties. The completed web-based satisfaction survey responses are aggregated and reported to DISA as part of the Quality Assurance Surveillance Plan. Additionally, users who voluntarily provide their contact information receive a follow-up call from the DCO service provider to discuss any concerns or issues they have with DCO performance.

Dated: September 30, 2014.
Aaron Siegel,
Alternate OSD Federal Register Liaison Officer, Department of Defense.

[FR Doc. 2014-23609 Filed 10-2-14; 8:45 am]

BILLING CODE 5001-06-P